ENVIRONMENTAL PROTECTION AGENCY

[OPP-2003-0185; FRL-7309-6]

The Association of American Pesticide Control Officials/State FIFRA Issues Research and Evaluation Group

AGENCY: Environmental Protection Agency (EPA).

ACTION: Notice.

SUMMARY: The Association of American Pesticide Control Officials (AAPCO)/State FIFRA Issues Research and Evaluation Group (SFIREG) will hold a 2-day meeting, beginning on June 23, 2003 and ending June 24, 2003. This notice announces the location and times for the meeting and sets forth the tentative agenda topics.

DATES: The meeting will be held on Monday, June 23, 2003, from 8:30 a.m. to 5 p.m., and Tuesday, June 24, 2003, from 8:30 a.m. until noon.

ADDRESSES: This meeting will be held at the Doubletree Hotel, 300 Army-Navy Drive, Arlington, VA.

FOR FURTHER INFORMATION CONTACT: Georgia A. McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov.

Philip H. Gray, SFIREG Executive Secretary, P.O. Box 1249, Hardwick, VT 05843-1249; telephone number: (802) 472-6956; fax (802) 472-6957; e-mail address: aapco@vtlink.net.

SUPPLEMENTARY INFORMATION:

I. General Information

A. Does this Action Apply to Me?

This action is directed to the public in general. This action may, however, be of interest to all parties interested in SFIREG's information exchange relationship with EPA regarding important issues related to human health, environmental exposure to pesticides, and insight into EPA's decision-making process. Interested parties are invited and encouraged to attend the meetings and participate as appropriate. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Docket. EPA has established an official public docket for this action under docket identification (ID) number OPP-2003-0185. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides tentative agenda topics for the 2-day meeting.

1. Certification issues/Americans with Disabilities Act (ADA), written tests, and language challenges.

2. CCA-treated wood/status of cancellation/risk assessments and disposal issues.

3. Anti-microbials efficacy/compliance issues.

4. Post-application liability/enforcement issues.

5. Certification Training Assessment Group (CTAG) activities/initiatives.

6. AAPCO/SFIREG State Survey/Grants and State Funding/update.

7. Worker Protection Standard (WPS) Program Element Review Report.

8. Endangered Species Program/FR Notice comments update.

9. Label restrictions for applications of pesticides in greenhouses.

10. Check sample program/status of States participation/current issues.

11. Reports from SFIREG Regional Representatives and Working Committee Chairs.

12. Issues papers/action items.

13. Update on current Office of Pesticide Programs activities.

14. Update on current Office of Enforcement and Compliance Assurance activities.

15. Other topics, as appropriate.

List of Subjects

Environmental protection, Pesticide pests.

Dated: May 15, 2003.
Jay S. Ellenberger,
Associate Director, Field and External Affairs Division, Office of Pesticide Programs.

[FR Doc. 03-13004 Filed 5-22-03; 8:45 am]

BILLING CODE 6560-50-S